DEPARTMENT OF HEALTH AND HUMAN SERVICES

Centers for Disease Control and Prevention

[60Day-16-16AOW; Docket No. CDC-2016-0050]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies to take this opportunity to comment on proposed and/or continuing information collections, as required by the Paperwork Reduction Act of 1995. This notice invites comment on the CDC I-Catalyst program. The I-Catalyst program is intended to help CDC employees get their ideas out of the starting blocks and down the track through a discovery, ideation, and prototyping process. The expected result is that CDC staff will be empowered to implement innovative strategies and solutions that create value for a set of beneficiaries.

DATES: Written comments must be received on or before August 15, 2016.

ADDRESSES: You may submit comments, identified by Docket No. CDC-2016-0050 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

CDC I-Catalyst Program—New—Office of the Associate Director for Science, Centers for Disease Control and Prevention (CDC).

Background and Brief Description

The CDC Office of Technology and Innovation (OTI) within Office of the Associate Director for Science (OADS) fosters innovative science and promotes the testing and implementation of innovative ideas that improve CDC's ability to have public health impact. To arm CDC staff with an expanded skill-set and tools to evaluate and translate their insights and ideas into solutions, CDC developed an experiential innovation curriculum called I-Catalyst. The program was created with the belief that innovation should be customer driven, be based on user research, and is something people at all levels of an organization can engage in.

The goal of the I-Catalyst program is to help CDC employees test and explore their ideas through a discovery, ideation, and prototyping process. I-Catalyst offers a process for defining problems and developing strategies to solutions that will help improve the quality and efficiency of innovation efforts and, as a result, overall performance. Through the I-Catalyst Program, teams work to define and articulate their problem space to find effective solutions. Participating teams will go through a hypothesis-testing, scientific method of discovery to gather important insights and identify issues associated with their projects. Teams are forced “out of the classroom” to conduct interviews, study customer/stakeholder needs, collect feedback, and find partnership opportunities. It is expected that participants will leave the program with the ability to evaluate and translate their insights into solutions.

The I-Catalyst program provides CDC staff with real-world, hands-on entrepreneurship training. Through I-Catalyst CDC staff make hypothesis about how the world works, and then test them by getting out of the building and talking to customers and/or stakeholders. Only conversations with potential customers/stakeholders can provide the facts from which hypotheses are proven or disproven about whether a solution (whether a product, process, etc.) creates value for the intended beneficiaries. Participants have to go out into the world and learn by doing. The process will engage customers/stakeholders in a process that will identify what they most value and need and what their top barriers and pain points are, and source solutions that will have high levels of efficacy and user acceptability.

I-Catalyst combines in-class lectures with out-of-class learning and interactions with various customers/stakeholders. This curriculum requires full participation from the entire team. The program guides teams and individuals through a series of workshops that helps participants articulate a problem, create evidence-based plan for assessment, and conduct unstructured interviews with customers/stakeholders. Ongoing technical assistance and support from a cadre of experts is provided to teams as they define the problem, map their operational model, and identify and interact with customers/stakeholders. Each team member must commit to in-depth preparation, attendance at the lectures and workshops, and at least 15 additional hours per week for customer discovery.

Teams will be spending a significant amount of time in between each of the lectures outside the class talking to customers. Each week teams will conduct a minimum of five customer interviews with individuals who represent different segments of customers/stakeholders whom they expect will gain value through their solution or will benefit from value streams that are being produced by their solution (in terms of social and/or environmental impact). The types of customers or stakeholders teams' interview will be specific to the proposed solution and context. For example, teams may interview government employees if the solution is intended to improve how government employees do their work. On the other hand, teams may interview individuals who work industry and businesses if the teams determines that they are the intended beneficiaries.

Using a generic information collection plan, this data collection covers qualitative information to be obtained through on-site, unstructured interviews with individuals who represent the customers or stakeholders CDC teams are attempting to serve or benefit. CDC anticipates conducting I-Catalyst with three cohorts of teams over the next two years. With each I-Catalyst cohort teams will interview their customers/stakeholders for an average of 30 minutes. Each team will interview approximately 50 respondents. With 8-10 teams participating in each of the three I-Catalyst training cohorts, approximately 1,500 respondents will be interviewed. Of these, approximately 40% of individuals will be internal CDC/ATSDR staff and 60% will be external partners, stakeholders, or customers. Data to be collected includes information regarding what they most value and need and their top barriers and pain points.

CDC expects that teams participating in the I-Catalyst will be empowered to implement innovative strategies and solutions that create value for a set of beneficiaries. The ultimate goal of the I-Catalyst program is to give CDC staff skills to successfully transfer knowledge into value-based solutions that benefit society and broaden the agency's impact.

Participation in the I-Catalyst interviews is completely voluntary. A three-year approval is requested. There is no cost to respondents other than their time.

Estimated Annualized Burden Hours
Type of respondents | Form name | Number of respondents | Number of responses per respondent | Average burden per response (in hrs.) | Total burden (in hrs.)
Cohort 1:
External Partners, Stakeholders, or Customers | Forms will not be used | 500 | 1 | 1 | 500
Cohort 2:
External Partners, Stakeholders, or Customers | Forms will not be used | 500 | 1 | 1 | 500
Cohort 3:
External Partners, Stakeholders, or Customers | Forms will not be used | 500 | 1 | 1 | 500
Total |  |  |  |  | 1,500

Leroy A. Richardson,
Chief, Information Collection Review Office, Office of Scientific Integrity, Office of the Associate Director for Science, Office of the Director, Centers for Disease Control and Prevention.

[FR Doc. 2016-13982 Filed 6-13-16; 8:45 am]

BILLING CODE 4163-18-P